DEPARTMENT OF COMMERCE

National Oceanic and Atmospheric Administration

50 CFR Part 660

[Docket No. 160808696-7010-02]

RIN 0648-BI50

Magnuson-Stevens Act Provisions; Fisheries Off West Coast States; Pacific Coast Groundfish Fishery; 2017-2018 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action, which is authorized by the Pacific Coast Groundfish Fishery Management Plan, is intended to allow commercial fishing vessels to access more abundant groundfish stocks while protecting overfished and depleted stocks.

DATES: This final rule is effective October 9, 2018.

FOR FURTHER INFORMATION CONTACT: Karen Palmigiano, phone: 206-526-4491 or email: karen.palmigiano@noaa.gov.

SUPPLEMENTARY INFORMATION:

Electronic Access

This rule is accessible via the internet at the Office of the Federal Register website at https://www.federalregister.gov. Background information and documents are available at the Pacific Fishery Management Council's website at http://www.pcouncil.org/.

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two year periods or biennium. NMFS published the final rule to implement harvest specifications and management measures for the 2017-18 biennium for most species managed under the PCGFMP on February 7, 2017 (82 FR 9634). In general, the management measures are set at the start of the biennial specifications cycle to help the various sectors of the fishery attain, but not exceed, the catch limits for each stock. The Council, in coordination with the States of Washington, Oregon, and California, recommends adjustments to the management measures during the fishing year to achieve this goal.

At its September 7-12, 2018, meeting the Council recommended four adjustments to current management measures, including: (1) Increasing the sablefish trip limits for the limited entry fixed gear (LEFG) fishery north of 36° North latitude (N lat.) and the open access fixed gear (OAFG) fishery north and south of 36° N lat.; (2) increasing the bocaccio trip limits for the LEFG fishery between 40°10′ N lat. and 34°27′ N lat.; (3) transferring Pacific Ocean perch (POP) and darkblotched rockfish from the incidental open access (IOA) set-asides to the set asides for unforeseen catch events for those species; and (4) increasing the incidental halibut retention allowance in the LEFG sablefish primary fishery.

Sablefish Trip Limit Increases for the LEFG and OA Sablefish DTL Fisheries

At the September 2018 Council meeting, the Groundfish Management Team (GMT) received requests from industry members and members of the Groundfish Advisory Subpanel (GAP) to examine the potential to increase sablefish trips limits for the LEFG fishery north of 36° N lat. and the OAFG fisheries north and south of 36° N lat. The intent of increasing trip limits would be to increase harvest opportunities for the LEFG and OAFG sablefish fisheries. To evaluate potential increases to sablefish trip limits, the GMT made model-based landings projections under current regulations and a range of potential sablefish trip limits, include the limits ultimately recommended by the Council, for the LEFG and OAFG sablefish fisheries through the remainder of the year. Table 1 shows the projected sablefish landings, the sablefish allocations, and the projected attainment percentage by fishery under both the current trip limits and the Council's recommended trip limits. These projections were based on the most recent catch information available through August 2018.

Table 1—Projected Landings of Sablefish, Sablefish Allocation, and Projected Percentage of Sablefish Attained Through the End of the Year by Trip Limit and Fishery
Fishery | Trip limits | Projected landings (round weight) (mt) | Allocation (mt) | Projected percentage attained
LEFG North of 36° N lat | Current: 1,100 lb/week, not to exceed 3,300 lb/2 month | 174.9-201.9 | 269 | 65-75.1
| Recommended: 1,400 lb/week, not to exceed 4,200 lb/2 month | 193.6-224.3 |  | 71.9-83.4
OAFG North of 36° N lat | Current: 300 lb/day, or 1 landing per week of up to 1,000 lb, not to exceed 2,000 lb/2 months | 341-347.5 | 444 | 76.8-78.3
| Recommended: 300 lb/day, or 1 landing per week of up to 1,400 lb, not to exceed 2,800 lbs/2 months | 417.2-427.7 |  | 94-96.3
OAFG South of 36° N lat | Current: 300 lb/day, or 1 landing per week of up to 1,600 lb, not to exceed 3,200 lb/2 months | 44.7 | 325 | 13.7
| Recommended: 300 lb/day, or 1 landing per week of up to 1,600 lb, not to exceed 4,800 lbs/2 months | 44.7 |  | 13.7

As shown in Table 1, under the current trip limits, the model predicts catches of sablefish will be at or below 75 percent for each fishery except the OAFG fishery north of 36° N lat. which may attain just over 78 percent of their sablefish allocation by the end of the year. Under the Council's recommended trip limits, sablefish attainment is projected to increase in the LEFG and OAFG fisheries north of 36° N lat. Due to a lack of participation and variance in trip limits in the OA fishery south of 36° N lat., the model was unable to detect any estimated change in attainment for this fishery even with the proposed increase in trip limits.

Projections for the LEFG sablefish fishery south of 36° N lat. remain low and within the levels anticipated in the 2017-18 harvest specifications and management measures. Industry did not request changes to sablefish trip limits for the LEFG fishery south of 36° N lat. Therefore, NMFS and the Council did not consider trip limit changes for this fishery.

Trip limit increases for sablefish are intended to increase attainment of the non-trawl HG. The proposed trip limit increases do not change projected impacts to co-occurring overfished species compared to the impacts anticipated in the 2017-18 harvest specifications because the projected impacts to those species assume that the entire sablefish ACL is harvested. Therefore, the Council recommended and NMFS is implementing, by modifying Table 2 (North) to part 660, subpart E, trip limit changes for the LEFG sablefish fishery north of 36° N lat. to increase the limits from “1,100 lb (499 kg) per week, not to exceed 3,300 lb (1,497 kg) per two months” to “1,400 lb (635 kg) per week, not to exceed 4,200 lb (1,905 kg) per two months” for period 4 (September and October) and period 5 (November and December).

The Council also recommended and NMFS is implementing, by modifying Table 3 (North and South) to part 660, subpart F, trip limits for sablefish in the OA sablefish DTL fishery north and south of 36° N lat. The trip limits for sablefish in the OA sablefish DTL fishery north of 36° N lat. will increase from “300 lb (136 kg) per day, or one landing per week of up to 1,000 lb (454 kg), not to exceed 2,000 lb (907 kg) per two months” to “300 lb (136 kg) per day, or one landing per week of up to 1,400 lb (590 kg), not to exceed 2,800 lb (1,179 kg) per two months” for period 4 (September and October) and period 5 (November and December). The trip limits for sablefish in the OA sablefish DTL fishery south of 36° N lat. will increase from “300 lb (136 kg) per day, or one landing per week of up to 1,600 lb (454 kg), not to exceed 3,200 lb (907 kg) per two months” to “300 lb (136 kg) per day, or one landing per week of up to 1,600 lb (590 kg), not to exceed 4,800 lb (1,179 kg) per two months” for period 4 (September and October) and period 5 (November and December).

LEFG Bocaccio Between 40°10′ N Lat. and 34°27′ N Lat. Trip Limits

Bocaccio is managed with stock-specific harvest specifications south of 40°10′ N lat., but is managed within the Minor Shelf Rockfish complex north of 40°10′ N lat. NMFS declared bocaccio overfished in 1999, and implemented a rebuilding plan for the stock in 2000. Although NMFS declared bocaccio officially rebuilt in 2017, the current harvest specifications are based on the current rebuilding plan. At the September 2018 Council meeting, members of the GAP notified the Council and the GMT of increased interactions with bocaccio for vessels targeting chilipepper rockfish. The low trip limits for bocaccio between 40°10′ N lat. and 34°27′ N lat., coupled with these increased interactions, results in higher bocaccio discard rates in the LEFG fishery. Because the most recent bocaccio attainment estimates suggest that around 4 percent or 16.7 mt of bocaccio will be attained out of the 442.3 mt non-trawl allocation, the GAP requested the GMT examine potential increases to the bocaccio trip limits for the LEFG fishery only between 40°10′ N lat and 34°27′ N lat. The GMT did not receive a request to examine trip limit increases for bocaccio south of 34°27′ N lat.

To assist the Council in evaluating potential trip limit increases for bocaccio between 40°10′ N lat. and 34°27′ N lat., the GMT analyzed projected attainment under the current status quo regulations and under the proposed trip limit changes. In 2016, when the bocaccio trip limits were established for the 2017-18 harvest specifications, few data points existed to provide projected annual catch data under the current trip limits. Based on that limited data, boccacio catch in the non-trawl commercial fishery between 40°10′ N lat. and 34°27′ N lat. was expected to be around 0.3 mt of the 442.3 mt non-trawl allocation. The GMT updated the expected attainment under the current status quo trip limits and examined potential impacts under alternative trip limits with additional catch data from the 2016 and 2017 fishing years.

Based on updated model projections under the current status quo trip limit of 1,000 lb (454 kg) per two months, total coastwide bocaccio catch in the LEFG and OA fisheries is expected to be 16.7 mt, or four percent of the non-trawl HG and two percent of the coastwide ACL. Increasing the trip limits to 1,500 lb (680 kg) per two months for the reminder of the fishing year for vessels fishing in the LEFG fishery in the area between 40°10′ N lat. and 34°27′ N lat., which would align them with the trip limits already in place south of 34°27′ N lat., is expected to increase total mortality by less than 0.1 mt, and the overall total mortality of bocaccio would be expected to remain at around four percent of the non-trawl HG and two percent of the coastwide ACL.

Trip limit increases for bocaccio are intended to allow for increased attainment of the non-trawl allocation (442.3 mt), while also providing the incentive for vessels targeting co-occurring species, such as chilipepper rockfish, to land their bocaccio catch instead of discarding. Therefore, the Council recommended and NMFS is implementing, by modifying Table 2 (South) to part 660, Subpart E, an increase to the bocaccio trip limits for the LEFG fishery between 40°10′ N lat. and 34°27′ N lat. The trip limits for bocaccio in this area will increase from “1,000 lb (464 kg) per per two months” to “1,500 lb (680 kg) per two months” for period 4 (September and October) and period 5 (November and December).

Transferring POP and Darkblotched Rockfish Set-Asides From IOA and Research Set-Asides to the Additional Buffer

NMFS sets ACLs for non-whiting groundfish stocks and stock complexes as part of biennial harvest specifications and management measures. Deductions are made “off-the-top” from the ACL to “set-aside” an amount for various sources of mortality, including non-groundfish fisheries that catch groundfish incidentally, also called IOA fisheries, as well as for research, tribal, recreational catch, and for some species, an amount for unforeseen catch events. NMFS allocates the remainder, the fishery's commercial HG, among the trawl and non-trawl sectors of the groundfish fishery. For some species, sector-specific set-asides are then deducted from the trawl allocation. For example, the trawl HGs for both darkblotched rockfish and POP are divided up into an allocation for the Shorebased individual fishing quota (IFQ) program and a set-asides for the motherships (MS) and catcher/processors (C/P) which make up the at-sea sector.

On January 8, 2018, NMFS published a final rule to implement Amendment 21-3. Amendment 21-3 recharacterized the portions of the trawl HG of darkblotched rockfish and POP for the MS and CP vessels that make up the at sea whiting sector from allocations, which are hard caps requiring the relevant sector to close upon reaching them, to sector specific set-asides (83 FR 757, January 8, 2018). This change was necessary because both those species had been declared rebuilt the previous year and the allocations were constraining the at-sea sector's ability to harvest whiting. Regulations implementing Amendment 21-3 do not require that a sector be closed upon reaching its set-aside, but do require NMFS to close either or both the MS and C/P sectors if the species-specific set-aside amounts for darkblotched rockfish or POP for that sector, plus a reserve or “buffer” for unforeseen catch events, is projected to be exceeded.

At the September 2018 Council meeting, representatives from the Midwater Trawlers Cooperative, Pacific Whiting Conservation Cooperative, United Catcher Boats, and Whiting Mothership Cooperative requested that the Council recommend NMFS take inseason action to transfer the unused portion of the IOA and research off the top deductions for darkblotched rockfish and POP to the buffer for those species. The intent of the request is to create a larger buffer for unforeseen catch events. If the at-sea sectors, or any sector, were to exceed their sector specific set-aside for darkblotched rockfish or POP, there would be a larger amount available in the buffer to harvest before NMFS would be required to close either the MS or C/P sectors.

To evaluate this request, the GMT considered the historical maximum amount of POP and darkblotched rockfish taken in the IOA and research fisheries over the past several years, the current amounts of POP and darkblotched rockfish taken in the IOA and research fisheries in 2018, the at-sea sector's total catch to date, and the projected catch for the remainder of the year for IOA, research, and the at-sea sector.

Currently, the IOA fishery has a 10 mt set-aside for POP, and research has a 5.2 mt set-aside. Harvest of POP in the IOA fishery mainly occurs in the pink shrimp fishery. Between 2007 and 2017 total harvest of POP in the IOA fishery was below 0.6 mt annually, except for an uncharacteristically high mortality in 2014 of 10 mt. Overall harvest of rockfish in the pink shrimp trawl fishery fell significantly in 2015 and remained low in subsequent years. Total harvest of POP in the IOA fishery between 2015 and 2017 was less than 0.7 mt. Total mortality of POP in the research sector between 2007 and 2017 never exceeded 3.10 mt annually. However, NOAA's Northwest Fisheries Science Center (NWFSC) notified the GMT that 2018 research catch is likely to be much higher after a single haul on a research cruise took 3.4 mt of POP.

The current set-aside for darkblotched rockfish in the IOA fishery is 24.5 mt, and the current research set-aside is 2.5 mt. Similar to POP, the majority of darkblotched rockfish catch in the IOA fishery is harvested in the pink shrimp fishery. Since 2015, no more than 6.82 mt of darkblotched rockfish was taken annually in the IOA fishery. Between 2007 and 2015, the darkblotched rockfish harvest in the IOA fishery exceeded 50 percent of the set-aside five times, most recently in 2014 when catch actually exceeded the set-aside for the first time. However, this was deemed to be an anomalous year due to a substantial recruitment event. The research fishery is expected to take their current set-aside amount this year, with 1.53 mt of darkblotched rockfish already caught in 2018.

Finally, the GMT conducted a analysis using data through September 5, 2018, to examine the potential attainment of the at-sea sector's darkblotched rockfish and POP set-asides, using the current bycatch rates and assuming full attainment of the at-sea sector's whiting allocation. Based on this analysis, the GMT determined that it is likely the C/P will exceed their POP set-aside (65.9-percent chance), and the MS will most likely not exceed their POP set-aside (8.5-percent chance). When considering both sectors, the combined at-sea sector has a 39-percent chance of exceeding their combined POP set-asides (15.2 mt) and a less than one percent chance of exceeding the set-aside value and the “buffer” set-aside (46.7 mt).

For darkblotched rockfish, the GMT's bootstrap analysis indicated that theC/P have a 40-percent chance of exceeding their darkblotched set-aside (16.7 mt) and the MS have a 32-percent chance of exceeding their darkblotched set-aside (11.8 mt). When considering both sectors, the combined at-sector has a 43-percent chance of exceeding their combined darkblotched rockfish set-asides (28.5 mt). None of the model runs showed that the at-sea sector, when considered as a group, would exceed their darkblotched set-aside and the “buffer” set-aside (78.5 mt).

While the current risk of the at-sea sector exceeding the POP or darkblotched rockfish set-aside and the amount set-aside for unforeseen catch events for those species is low to negligible at this time, the Council considered the risk to the at-sea sector and the other groundfish fisheries if no action was taken. If the Council chose not to take action now, because the automatic closure authority still exists in regulations, if the MS or C/P sectors exceeded their darkblotched or POP set-aside and the amount set-aside for unforeseen catch events for that species, the NMFS would have to close the sectors even though there may be unused POP or darkblotched rockfish in the IOA fisheries. The projected economic impacts associated with a closure of the at-sea sector in November, when closure would most likely occur, are losses of approximately 200 jobs and $14 million in personal income. Additionally, in order to reopen the Pacific whiting fishery, the Council would need to convene an emergency Council meeting or wait until the Council makes a decision at a subsequent meeting. Finally, because moving any portion of the IOA set-aside into the amount set aside for unforeseen catch events would make that amount available for all sectors, the GMT did not determine that this request would pose a risk to other groundfish fisheries.

Therefore, the Council recommended and NMFS is implementing a redistribution of 9.7 mt of POP and 17.7 mt of darkblotched rockfish, from the “off-the-top” deductions for the IOA fishery made at the start of the 2017-18 biennium, to the buffer for unforeseen catch events. This redistribution creates a larger buffer for all sectors, and reduces the risk of a closure of one or both the MS and C/P sectors. Transfer of POP and darkblotched rockfish to the set-aside for unforeseen catch events is not expected to result in greater impacts to either species, or other overfished species, than what was originally projected through the 2017-18 harvest specifications.

Incidental Halibut Retention in the Limited Entry Fixed Gear Sablefish Primary Fishery

Under the authority of the Northern Pacific Halibut Act of 1982, the Council developed a Catch Sharing Plan for the International Pacific Halibut Commission Regulatory Area 2A. The Catch Sharing Plan allocates the Area 2A annual total allowable catch (TAC) among fisheries off Washington, Oregon, and California. Pacific halibut is generally a prohibited species for vessels fishing in Pacific coast groundfish fisheries, unless explicitly allowed in groundfish regulations and authorized by the Pacific halibut Catch Sharing Plan. In years when the Pacific halibut TAC is above 900,000 lb (408 mt), the Catch Sharing Plan allows the limited entry fixed gear sablefish primary fishery an incidental retention limit for Pacific halibut north of Point Chehalis, WA (46°53.30′ N. lat.). On March 24, 2018, NMFS implemented a 2018 Area 2A TAC of 1,190,000 lb (540 mt) (83 FR 13080, March 26, 2018). Consistent with the provisions of the Catch Sharing Plan, the limited entry fixed gear sablefish primary fishery north of Pt. Chelais, WA has an incidental total catch limit of 50,000 lb (22.7 mt) for 2018.

Current regulations at § 660.231(b)(3)(iv) provide for halibut retention starting on April 1 with a landing ratio of 160 lb (64 kg) dressed weight of halibut, for every 1,000 lb (454 kg) dressed weight of sablefish landed, and up to an additional 2 halibut in excess of this ratio. These limits, recommended by the Council at its March 2018 meeting, and subsequently implemented by NMFS on April 13, 2018 (83 FR 16005), were intended to allow the total catch of Pacific halibut to approach, but not exceed, the 2018 allocation for the sablefish primary fishery north of Pt. Chelais, WA (50,000 lb or 22.7 mt) and provide greater opportunity for industry to attain a higher percentage of the sablefish primary fishery allocation. However, the GMT notified the Council, after a request from the GAP to increase the incidental halibut allowance in the sablefish primary fishery, that incidental catch of halibut through September 11, 2018, was 22,464 lb, or less than 50 percent of the 50,000 lb allocation, with little more than a month left in the season that ends on October 31, 2018.

Therefore, in order to allow increased incidental halibut retention in the sablefish primary fishery, the Council recommended and NMFS is implementing revised incidental halibut retention regulations at § 660.231(b)(3)(iv) to increase the catch ratio to “200 lb dressed weight of halibut for every 1,000 lb dressed weight of sablefish landed and up to 2 additional halibut in excess of the 200 lb per 1,000 lb ratio per landing.” This modest increase in the allowed halibut retention ratio over the last few weeks of the fishery is unlikely to cause catch to exceed the incidental halibut allocation for the sablefish primary fishery north of Pt. Chehalis, WA, but will provide some additional benefit to fishery participants.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

NMFS finds good cause to waive prior public notice and comment on these adjustments to groundfish management measures under 5 U.S.C. 553(b) because notice and comment would be impracticable and contrary to the public interest. Each of the adjustments to commercial groundfish management measures in this rule would create more harvest opportunity and allow fishermen to better attain species that are currently under attained without causing any additional impacts on the fishery. Delaying the implementation of these adjustments would reduce or eliminate the benefits that they would provide to the industry. For example, the sablefish primary season ends on October 31, 2018; therefore, any delay in implementing the increased halibut retention limit would further limit the time available for fishery participants to benefit from these changes. Allowing for a public comment period would likely result in little if any time before the end of the season. Vessels fishing in the LEFG or OAFG fisheries for sablefish would ultimately only fish under the increased trip limits for 1.5 periods (October-December). Providing for a public comment period and issuing a final rule would likely delay implementation of the increased limits to the point where only minimal fishing opportunity remained due to the approaching end of the year and winter weather conditions. Delaying implementation further risks the at-sea sector reaching and/or exceeding their set-aside for darkblotched rockfish and POP further increasing fears about potential closures and the expenses associated with such closures. In summary, providing a comment period for this action would significantly limit the benefits to the fishery, and would hamper the achievement of optimum yield from the affected fisheries. For the same reasons, the NMFS finds good cause to waive the 30-day delay in effectiveness pursuant to 5 U.S.C. 553(d)(3), so that this final rule may become effective October 9, 2018. The adjustments to management measures in this document affect commercial fisheries in Washington, Oregon and California. These adjustments were requested by members of industry during the Council's September 7-11, 2018 meeting, and recommended unanimously by the Council. No aspect of this action is controversial, and changes of this nature were anticipated in the biennial harvest specifications and management measures established through a notice and comment rulemaking for 2017-18 (82 FR 9634). Therefore, NMFS finds good cause to waive prior notice and comment and to waive the delay in effectiveness.

List of Subjects in 50 CFR Part 660

Fisheries, Fishing, and Indian Fisheries.

Dated: October 3, 2018.
Margo B. Schulze-Haugen,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2a to part 660, subpart C, is revised to read as follows:

Table 2a to Part 660, Subpart C—2018, and Beyond, Specifications of OFL, ABC, ACL, ACT and Fishery Harvest Guidelines
[Weights in metric tons]
Species | Area | OFL | ABC | ACL ᵃ | Fishery HG ᵇ
BOCACCIO ᶜ | S of 40°10′ N lat. | 2,013 | 1,924 | 741 | 726
COWCOD ᵈ | S of 40°10′ N lat. | 71 | 64 | 10 | 8
DARKBLOTCHED ROCKFISH ᵉ | Coastwide | 683 | 653 | 653 | 576
PACIFIC OCEAN PERCH ᶠ | N of 40°10′ N lat. | 984 | 941 | 281 | 232
YELLOWEYE ROCKFISH ᵍ | Coastwide | 58 | 48 | 20 | 14
Arrowtooth flounder ʰ | Coastwide | 16,498 | 13,743 | 13,743 | 11,645
Big skate ⁱ | Coastwide | 541 | 494 | 494 | 437
Black rockfish ʲ | California (South of 42° N lat.) | 347 | 332 | 332 | 331
Black rockfish ᵏ | Oregon (Between 46°16′ N lat. and 42° N lat.) | 570 | 520 | 520 | 519
Black rockfish ˡ | Washington (N of 46°16′ N lat.) | 315 | 301 | 301 | 283
Blackgill rockfish ᵐ | S of 40°10′ N lat. | NA | NA | NA | NA
Cabezon ⁿ | California (South of 42° N lat.) | 156 | 149 | 149 | 149
Cabezon ᵒ | Oregon (Between 46°16′ N lat. and 42° N lat.) | 49 | 47 | 47 | 47
California scorpionfish ᵖ | S of 34°27′ N lat. | 278 | 254 | 150 | 148
Canary rockfish q | Coastwide | 1,596 | 1,526 | 1,526 | 1,467
Chilipepper ʳ | S of 40°10′ N lat. | 2,623 | 2,507 | 2,507 | 2,461
Dover sole ˢ | Coastwide | 90,282 | 86,310 | 50,000 | 48,406
English sole ᵗ | Coastwide | 8,255 | 7,537 | 7,537 | 7,324
Lingcod ᵘ | N of 40°10′ N lat. | 3,310 | 3,110 | 3,110 | 2,832
Lingcod ᵛ | S of 40°10′ N lat. | 1,373 | 1,144 | 1,144 | 1,135
Longnose skate ʷ | Coastwide | 2,526 | 2,415 | 2,000 | 1,853
Longspine thornyhead ˣ | Coastwide | 4,339 | 3,614 | NA | NA
Longspine thornyhead | N of 34°27′ N lat. | NA | NA | 2,747 | 2,700
Longspine thornyhead | S of 34°27′ N lat. | NA | NA | 867 | 864
Pacific cod ʸ | Coastwide | 3,200 | 2,221 | 1,600 | 1,091
Pacific whiting ᶻ | Coastwide | 725,984 | ᶻ | ᶻ | 362,682
Petrale sole ᵃᵃ | Coastwide | 3,152 | 3,013 | 3,013 | 2,772
Sablefish | Coastwide | 8,329 | 7,604 | NA | NA
Sablefish ᵇᵇ | N of 36° N lat. | NA | NA | 5,475 | See Table 2c
Sablefish ᶜᶜ | S of 36° N lat. | NA | NA | 1,944 | 1,939
Shortbelly rockfish ᵈᵈ | Coastwide | 6,950 | 5,789 | 500 | 489
Shortspine thornyhead ᵉᵉ | Coastwide | 3,116 | 2,596 | NA | NA
Shortspine thornyhead | N of 34°27′ N lat. | NA | NA | 1,698 | 1,639
Shortspine thornyhead | S of 34°27′ N lat. | NA | NA | 898 | 856
Spiny dogfish ᶠᶠ | Coastwide | 2,500 | 2,083 | 2,083 | 1,745
Splitnose rockfish ᵍᵍ | S of 40°10′ N lat. | 1,842 | 1,761 | 1,761 | 1,750
Starry flounder ʰʰ | Coastwide | 1,847 | 1,282 | 1,282 | 1,272
Widow rockfish ⁱⁱ | Coastwide | 13,237 | 12,655 | 12,655 | 12,437
Yellowtail rockfish ʲʲ | N of 40°10′ N lat. | 6,574 | 6,002 | 6,002 | 4,972
Minor Nearshore Rockfish ᵏᵏ | N of 40°10′ N lat. | 119 | 105 | 105 | 103
Minor Shelf Rockfish ˡˡ | N of 40°10′ N lat. | 2,302 | 2,048 | 2,047 | 1,963
Minor Slope Rockfish ᵐᵐ | N of 40°10′ N lat. | 1,896 | 1,754 | 1,754 | 1,689
Minor Nearshore Rockfish ⁿⁿ | S of 40°10′ N lat. | 1,344 | 1,180 | 1,179 | 1,175
Minor Shelf Rockfish ᵒᵒ | S of 40°10′ N lat. | 1,918 | 1,625 | 1,624 | 1,577
Minor Slope Rockfish ᵖᵖ | S of 40°10′ N lat. | 829 | 719 | 709 | 689
Other Flatfish qq | Coastwide | 9,690 | 7,281 | 7,281 | 7,077
Other Fish ʳʳ | Coastwide | 501 | 441 | 441 | 441
ᵃ Annual catch limits (ACLs), annual catch targets (ACTs) and harvest guidelines (HGs) are specified as total catch values.
ᵇ Fishery harvest guidelines means the harvest guideline or quota after subtracting Pacific Coast treaty Indian tribes allocations and projected catch, projected research catch, deductions for fishing mortality in non-groundfish fisheries, and deductions for EFPs from the ACL or ACT.
ᶜ Bocaccio. A stock assessment was conducted in 2015 for the bocaccio stock between the U.S.-Mexico border and Cape Blanco. The stock is managed with stock-specific harvest specifications south of 40°10′ N lat. and within the Minor Shelf Rockfish complex north of 40°10′ N lat. A historical catch distribution of approximately 7.4 percent was used to apportion the assessed stock to the area north of 40°10′ N lat. The bocaccio stock was estimated to be at 36.8 percent of its unfished biomass in 2015. The OFL of 2,013 mt is projected in the 2015 stock assessment using an FMSY proxy of F50%. The ABC of 1,924 mt is a 4.4 percent reduction from the OFL (σ = 0.36/P* = 0.45) because it is a category 1 stock. The 741 mt ACL is based on the current rebuilding plan with a target year to rebuild of 2022 and an SPR harvest rate of 77.7 percent. 15.4 mt is deducted from the ACL to accommodate the incidental open access fishery (0.8 mt), EFP catch (10 mt) and research catch (4.6 mt), resulting in a fishery HG of 725.6 mt. The California recreational fishery has an HG of 305.5 mt.
ᵈ Cowcod. A stock assessment for the Conception Area was conducted in 2013 and the stock was estimated to be at 33.9 percent of its unfished biomass in 2013. The Conception Area OFL of 59 mt is projected in the 2013 rebuilding analysis using an FMSY proxy of F50%. The OFL contribution of 12 mt for the unassessed portion of the stock in the Monterey area is based on depletion-based stock reduction analysis. The OFLs for the Monterey and Conception areas were summed to derive the south of 40°10′ N lat. OFL of 71 mt. The ABC for the area south of 40°10′ N lat. is 64 mt. The assessed portion of the stock in the Conception Area is considered category 2, with a Conception area contribution to the ABC of 54 mt, which is an 8.7 percent reduction from the Conception area OFL (σ = 0.72/P* = 0.45). The unassessed portion of the stock in the Monterey area is considered a category 3 stock, with a contribution to the ABC of 10 mt, which is a 16.6 percent reduction from the Monterey area OFL (σ = 1.44/P* = 0.45). A single ACL of 10 mt is being set for both areas combined. The ACL of 10 mt is based on the rebuilding plan with a target year to rebuild of 2020 and an SPR harvest rate of 82.7 percent, which is equivalent to an exploitation rate (catch over age 11+ biomass) of 0.007. 2 mt is deducted from the ACL to accommodate the incidental open access fishery (less than 0.1 mt), EFP fishing (less than 0.1 mt) and research activity (2 mt), resulting in a fishery HG of 8 mt. Any additional mortality in research activities will be deducted from the ACL. A single ACT of 4 mt is being set for both areas combined.
ᵉ Darkblotched rockfish. A 2015 stock assessment estimated the stock to be at 39 percent of its unfished biomass in 2015. The OFL of 683 mt is projected in the 2015 stock assessment using an FMSY proxy of F50%. The ABC of 653 mt is a 4.4 percent reduction from the OFL (σ = 0.36/P* = 0.45) because it is a category 1 stock. The ACL is set equal to the ABC, as the stock is projected to be above its target biomass of B40% in 2017. 77.3 mt is deducted from the ACL to accommodate the Tribal fishery (0.2 mt), the incidental open access fishery (24.5 mt), EFP catch (0.1 mt), research catch (2.5 mt) and an additional deduction for unforeseen catch events (50 mt), resulting in a fishery HG of 575.8 mt. On October 9, 2018 17.7 mt were redistributed from the incidental open access fishery to the deduction for unforeseen catch events. This redistribution results in an incidental open access amount of 6.8 mt and a deduction for unforeseen catch events of 67.7 mt.
ᶠ Pacific ocean perch. A stock assessment was conducted in 2011 and the stock was estimated to be at 19.1 percent of its unfished biomass in 2011. The OFL of 984 mt for the area north of 40°10′ N lat. is based on an updated catch-only projection of the 2011 rebuilding analysis using an F50% FMSY proxy. The ABC of 941 mt is a 4.4 percent reduction from the OFL (σ = 0.36/P* = 0.45) as it is a category 1 stock. The ACL is based on the current rebuilding plan with a target year to rebuild of 2051 and a constant catch amount of 281 mt in 2017 and 2018, followed in 2019 and beyond by ACLs based on an SPR harvest rate of 86.4 percent. 49.4 mt is deducted from the ACL to accommodate the Tribal fishery (9.2 mt), the incidental open access fishery (10 mt), research catch (5.2 mt) and an additional deduction for unforeseen catch events (25 mt), resulting in a fishery HG of 231.6 mt. On October 9, 2018 9.7 mt were redistributed from the incidental open access fishery to the deduction for unforeseen catch events. This redistribution results in an incidental open access amount of 0.3 mt and a deduction for unforeseen catch events of 34.7 mt.
ᵍ Yelloweye rockfish. A stock assessment update was conducted in 2011. The stock was estimated to be at 21.4 percent of its unfished biomass in 2011. The 58 mt coastwide OFL is based on a catch-only update of the 2011 stock assessment, assuming actual catches since 2011 and using an FMSY proxy of F50%. The ABC of 48 mt is a 16.7 percent reduction from the OFL (σ = 0.72/P* = 0.40) as it is a category 2 stock. The 20 mt ACL is based on the current rebuilding plan with a target year to rebuild of 2074 and an SPR harvest rate of 76.0 percent. 6 mt is deducted from the ACL to accommodate the Tribal fishery (2.3 mt), the incidental open access fishery (0.4 mt), EFP catch (less than 0.1 mt) and research catch (3.27 mt) resulting in a fishery HG of 14 mt. Recreational HGs are: 3.3 mt (Washington); 3 mt (Oregon); and 3.9 mt (California).
ʰ Arrowtooth flounder. The arrowtooth flounder stock was last assessed in 2007 and was estimated to be at 79 percent of its unfished biomass in 2007. The OFL of 16,498 mt is derived from a catch-only update of the 2007 assessment assuming actual catches since 2007 and using an F30% FMSY proxy. The ABC of 13,743 mt is a 16.7 percent reduction from the OFL (σ = 0.72/P* = 0.40) as it is a category 2 stock. The ACL is set equal to the ABC because the stock is above its target biomass of B25%. 2,098.1 mt is deducted from the ACL to accommodate the Tribal fishery (2,041 mt), the incidental open access fishery (40.8 mt), and research catch (16.4 mt), resulting in a fishery HG of 11,644.9 mt.
ⁱ Big skate. The OFL of 541 mt is based on an estimate of trawl survey biomass and natural mortality. The ABC of 494 mt is a 8.7 percent reduction from the OFL (σ = 0.72/P* = 0.45) as it is a category 2 stock. The ACL is set equal to the ABC. 57.4 mt is deducted from the ACL to accommodate the Tribal fishery (15 mt), the incidental open access fishery (38.4 mt), and research catch (4 mt), resulting in a fishery HG of 436.6 mt.
ʲ Black rockfish (California). A 2015 stock assessment estimated the stock to be at 33 percent of its unfished biomass in 2015. The OFL of 347 mt is projected in the 2015 stock assessment using an FMSY proxy of F50%. The ABC of 332 mt is a 4.4 percent reduction from the OFL (σ = 0.36/P* = 0.45) because it is a category 1 stock. The ACL is set equal to the ABC because the stock is projected to be above its target biomass of B40% in 2018. 1 mt is deducted from the ACL for EFP catch, resulting in a fishery HG of 331 mt.
ᵏ Black rockfish (Oregon). A 2015 stock assessment estimated the stock to be at 60 percent of its unfished biomass in 2015. The OFL of 570 mt is projected in the 2015 stock assessment using an FMSY proxy of F50%. The ABC of 520 mt is an 8.7 percent reduction from the OFL (σ = 0.72/P* = 0.45) because it is a category 2 stock. The ACL is set equal to the ABC because the stock is above its target biomass of B40%. 0.6 mt is deducted from the ACL to accommodate the incidental open access fishery, resulting in a fishery HG of 519.4 mt.
ˡ Black rockfish (Washington). A 2015 stock assessment estimated the stock to be at 43 percent of its unfished biomass in 2015. The OFL of 315 mt is projected in the 2015 stock assessment using an FMSY proxy of F50%. The ABC of 301 mt is a 4.4 percent reduction from the OFL (σ = 0.36/P* = 0.45) because it is a category 1 stock. The ACL is set equal to the ABC because the stock is above its target biomass of B40%. 18 mt is deducted from the ACL to accommodate the Tribal fishery, resulting in a fishery HG of 283 mt.
ᵐ Blackgill rockfish. Blackgill rockfish contributes to the harvest specifications for the Minor Slope Rockfish South complex. See footnote pp.
ⁿ Cabezon (California). A cabezon stock assessment was conducted in 2009. The cabezon spawning biomass in waters off California was estimated to be at 48.3 percent of its unfished biomass in 2009. The OFL of 156 mt is calculated using an FMSY proxy of F50%. The ABC of 149 mt is based on a 4.4 percent reduction from the OFL (σ = 0.36/P* = 0.45) because it is a category 1 stock. The ACL is set equal to the ABC because the stock is above its target biomass of B40%. 0.3 mt is deducted from the ACL to accommodate the incidental open access fishery (0.3 mt), resulting in a fishery HG of 148.7 mt.
ᵒ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ = 0.36/P* = 0.45) because it is a category 1 species. The ACL is set equal to the ABC because the stock is above its target biomass of B40%. There are no deductions from the ACL so the fishery HG is also equal to the ACL of 47 mt.
ᵖ California scorpionfish. A California scorpionfish assessment was conducted in 2005 and was estimated to be at 79.8 percent of its unfished biomass in 2005. The OFL of 278 mt is based on projections from a catch-only update of the 2005 assessment assuming actual catches since 2005 and using an FMSY harvest rate proxy of F50%. The ABC of 254 mt is an 8.7 percent reduction from the OFL (σ = 0.72/P* = 0.45) because it is a category 2 stock. The ACL is set at a constant catch amount of 150 mt. 2.2 mt is deducted from the ACL to accommodate the incidental open access fishery (2 mt) and research catch (0.2 mt), resulting in a fishery HG of 147.8 mt. An ACT of 111 mt is established.
q Canary rockfish. A stock assessment was conducted in 2015 and the stock was estimated to be at 55.5 percent of its unfished biomass coastwide in 2015. The coastwide OFL of 1,596 mt is projected in the 2015 assessment using an FMSY harvest rate proxy of F50%. The ABC of 1,526 mt is a 4.4 percent reduction from the OFL (σ = 0.36/P* = 0.45) as it is a category 1 stock. The ACL is set equal to the ABC because the stock is above its target biomass of B40%. 59.4 mt is deducted from the ACL to accommodate the Tribal fishery (50 mt), the incidental open access fishery (1.2 mt), EFP catch (1 mt) and research catch (7.2 mt) resulting in a fishery HG of 1,466.6 mt. Recreational HGs are: 50 mt (Washington); 75 mt (Oregon); and 135 mt (California).
ʳ Chilipepper. A coastwide update assessment of the chilipepper stock was conducted in 2015 and estimated to be at 64 percent of its unfished biomass in 2015. Chilipepper are managed with stock-specific harvest specifications south of 40°10′N lat. and within the Minor Shelf Rockfish complex north of 40°10′ N lat. Projected OFLs are stratified north and south of 40°10′ N lat. based on the average historical assessed area catch, which is 93 percent for the area south of 40°10′ N lat. and 7 percent for the area north of 40°10′ N lat. The OFL of 2,623 mt for the area south of 40°10′ N lat. is projected in the 2015 assessment using an FMSY proxy of F50%. The ABC of 2,507 mt is a 4.4 percent reduction from the OFL (σ = 0.36/P* = 0.45) because it is a category 1 stock. The ACL is set equal to the ABC because the stock is above its target biomass of B40%. 45.9 mt is deducted from the ACL to accommodate the incidental open access fishery (5 mt), EFP fishing (30 mt), and research catch (10.9 mt), resulting in a fishery HG of 2,461.1 mt.
ˢ Dover sole. A 2011 Dover sole assessment estimated the stock to be at 83.7 percent of its unfished biomass in 2011. The OFL of 90,282 mt is based on an updated catch-only projection from the 2011 stock assessment assuming actual catches since 2011 and using an FMSY proxy of F30%. The ABC of 86,310 mt is a 4.4 percent reduction from the OFL (σ = 0.36/P* = 0.45) because it is a category 1 stock. The ACL could be set equal to the ABC because the stock is above its target biomass of B25%. However, the ACL of 50,000 mt is set at a level below the ABC and higher than the maximum historical landed catch. 1,593.7 mt is deducted from the ACL to accommodate the Tribal fishery (1,497 mt), the incidental open access fishery (54.8 mt), and research catch (41.9 mt), resulting in a fishery HG of 48,406.3 mt.
ᵗ English sole. A 2013 stock assessment was conducted, which estimated the stock to be at 88 percent of its unfished biomass in 2013. The OFL of 8,255 mt is projected in the 2013 assessment using an FMSY proxy of F30%. The ABC of 7,537 mt is an 8.7 percent reduction from the OFL (σ = 0.72/P* = 0.45) because it is a category 2 stock. The ACL is set equal to the ABC because the stock is above its target biomass of B25%. 212.8 mt is deducted from the ACL to accommodate the Tribal fishery (200 mt), the incidental open access fishery (7 mt) and research catch (5.8 mt), resulting in a fishery HG of 7,324.2 mt.
ᵘ Lingcod north. The 2009 lingcod assessment modeled two populations north and south of the California-Oregon border (42° N lat.). Both populations were healthy with stock depletion estimated at 62 and 74 percent for the north and south, respectively in 2009.The OFL is based on an updated catch-only projection from the 2009 assessment assuming actual catches since 2009 and using an FMSY proxy of F45%. The OFL is apportioned by adding 48 percent of the OFL from California, resulting in an OFL of 3,310 mt for the area north of 40°10′ N lat. The ABC of 3,110 mt is based on a 4.4 percent reduction (σ = 0.36/P* = 0.45) from the OFL contribution for the area north of 42° N lat. because it is a category 1 stock, and an 8.7 percent reduction (σ = 0.72/P* = 0.45) from the OFL contribution for the area between 42° N lat. and 40°10′ N lat. because it is a category 2 stock. The ACL is set equal to the ABC because the stock is above its target biomass of B40%. 278.2 mt is deducted from the ACL for the Tribal fishery (250 mt), the incidental open access fishery (16 mt), EFP catch (0.5 mt) and research catch (11.7 mt), resulting in a fishery HG of 2,831.8 mt.
ᵛ Lingcod south. The 2009 lingcod assessment modeled two populations north and south of the California-Oregon border (42° N lat.). Both populations were healthy with stock depletion estimated at 62 and 74 percent for the north and south, respectively in 2009. The OFL is based on an updated catch-only projection of the 2009 stock assessment assuming actual catches since 2009 and using an FMSY proxy of F45%. The OFL is apportioned by subtracting 48 percent of the California OFL, resulting in an OFL of 1,373 mt for the area south of 40°10′ N lat. The ABC of 1,144 mt is based on a 16.7 percent reduction from the OFL (σ = 0.72/P* = 0.40) because it is a category 2 stock. The ACL is set equal to the ABC because the stock is above its target biomass of B40%. 9 mt is deducted from the ACL to accommodate the incidental open access fishery (6.9 mt), EFP fishing (1 mt), and research catch (1.1 mt), resulting in a fishery HG of 1,135 mt.
ʷ Longnose skate. A stock assessment was conducted in 2007 and the stock was estimated to be at 66 percent of its unfished biomass. The OFL of 2,526 mt is derived from the 2007 stock assessment using an FMSY proxy of F50%. The ABC of 2,415 mt is a 4.4 percent reduction from the OFL (σ = 0.36/P* = 0.45) because it is a category 1 stock. The ACL of 2,000 mt is a fixed harvest level that provides greater access to the stock and is less than the ABC. 147 mt is deducted from the ACL to accommodate the Tribal fishery (130 mt), incidental open access fishery (3.8 mt), and research catch (13.2 mt), resulting in a fishery HG of 1,853 mt.
ˣ Longspine thornyhead. A 2013 longspine thornyhead coastwide stock assessment estimated the stock to be at 75 percent of its unfished biomass in 2013. A coastwide OFL of 4,339 mt is projected in the 2013 stock assessment using an F50% FMSY proxy. The coastwide ABC of 3,614 mt is a 16.7 percent reduction from the OFL (σ = 0.72/P* = 0.40) because it is a category 2 stock. For the portion of the stock that is north of 34°27′ N lat., the ACL is 2,747 mt, and is 76 percent of the coastwide ABC based on the average swept-area biomass estimates (2003-2012) from the NMFS NWFSC trawl survey. 46.8 mt is deducted from the ACL to accommodate the Tribal fishery (30 mt), the incidental open access fishery (3.3 mt), and research catch (13.5 mt), resulting in a fishery HG of 2,700.2 mt. For that portion of the stock south of 34°27′ N lat. the ACL is 867 mt and is 24 percent of the coastwide ABC based on the average swept-area biomass estimates (2003-2012) from the NMFS NWFSC trawl survey. 3.2 mt is deducted from the ACL to accommodate the incidental open access fishery (1.8 mt), and research catch (1.4 mt), resulting in a fishery HG of 863.8 mt.
ʸ Pacific cod. The 3,200 mt OFL is based on the maximum level of historic landings. The ABC of 2,221 mt is a 30.6 percent reduction from the OFL (σ = 1.44/P* = 0.40) as it is a category 3 stock. The 1,600 mt ACL is the OFL reduced by 50 percent as a precautionary adjustment. 509 mt is deducted from the ACL to accommodate the Tribal fishery (500 mt), research catch (7 mt), and the incidental open access fishery (2 mt), resulting in a fishery HG of 1,091 mt.
ᶻ Pacific whiting. The coastwide stock assessment was published in 2018 and estimated the spawning stock to be at 66.7 percent of its unfished biomass. The 2018 OFL of 725,984 mt is based on the 2018 assessment with an F40% FMSY proxy. The 2018 coastwide, unadjusted Total Allowable Catch (TAC) of 517,775 mt is based on the 2018 stock assessment. The U.S. TAC is 73.88 percent of the coastwide unadjusted TAC. Up to 15 percent of each party's unadjusted 2017 TAC (58,901 mt for the U.S. and 20,824 mt for Canada) is added to each party's 2018 unadjusted TAC, resulting in a U.S. adjusted 2018 TAC of 441,433 mt. From the adjusted U.S. TAC, 77,251 mt is deducted to accommodate the Tribal fishery, and 1,500 mt is deducted to accommodate research and bycatch in other fisheries, resulting in a fishery HG of 362,682 mt. The TAC for Pacific whiting is established under the provisions of the Agreement with Canada on Pacific Hake/Whiting and the Pacific Whiting Act of 2006, 16 U.S.C. 7001-7010, and the international exception applies. Therefore, no ABC or ACL values are provided for Pacific whiting.
ᵃᵃ Petrale sole. A 2015 stock assessment update was conducted, which estimated the stock to be at 31 percent of its unfished biomass in 2015. The OFL of 3,152 mt is projected in the 2015 assessment using an FMSY proxy of F30%. The ABC of 3,013 mt is a 4.4 percent reduction from the OFL (σ = 0.36/P* = 0.45) because it is a category 1 stock. The ACL is set equal to the ABC because the stock is above its target biomass of B25%. 240.9 mt is deducted from the ACL to accommodate the Tribal fishery (220 mt), the incidental open access fishery (3.2 mt) and research catch (17.7 mt), resulting in a fishery HG of 2,772.1 mt.
ᵇᵇ Sablefish north. A coastwide sablefish stock assessment update was conducted in 2015. The coastwide sablefish biomass was estimated to be at 33 percent of its unfished biomass in 2015. The coastwide OFL of 8,329 mt is projected in the 2015 stock assessment using an FMSY proxy of F45%. The ABC of 7,604 mt is an 8.7 percent reduction from the OFL (σ = 0.36/P* = 0.40). The 40-10 adjustment is applied to the ABC to derive a coastwide ACL value because the stock is in the precautionary zone. This coastwide ACL value is not specified in regulations. The coastwide ACL value is apportioned north and south of 36° N lat., using the 2003-2014 average estimated swept area biomass from the NMFS NWFSC trawl survey, with 73.8 percent apportioned north of 36° N lat. and 26.2 percent apportioned south of 36° N lat. The northern ACL is 5,475 mt and is reduced by 548 mt for the Tribal allocation (10 percent of the ACL north of 36° N lat.). The 548 mt Tribal allocation is reduced by 1.5 percent to account for discard mortality. Detailed sablefish allocations are shown in Table 2c.
ᶜᶜ Sablefish south. The ACL for the area south of 36° N lat. is 1,944 mt (26.2 percent of the calculated coastwide ACL value). 5 mt is deducted from the ACL to accommodate the incidental open acrdedseescess fishery (2 mt) and research catch (3 mt), resulting in a fishery HG of 1,939 mt.
ᵈᵈ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ = 0.72/P* = 0.40) because it is a category 2 stock. The 500 mt ACL is set to accommodate incidental catch when fishing for co-occurring healthy stocks and in recognition of the stock's importance as a forage species in the California Current ecosystem. 10.9 mt is deducted from the ACL to accommodate the incidental open access fishery (8.9 mt) and research catch (2 mt), resulting in a fishery HG of 489.1 mt.
ᵉᵉ Shortspine thornyhead. A 2013 coastwide shortspine thornyhead stock assessment estimated the stock to be at 74.2 percent of its unfished biomass in 2013. A coastwide OFL of 3,116 mt is projected in the 2013 stock assessment using an F50% FMSY proxy. The coastwide ABC of 2,596 mt is a 16.7 percent reduction from the OFL (σ = 0.72/P* = 0.40) because it is a category 2 stock. For the portion of the stock that is north of 34°27′ N lat., the ACL is 1,698 mt. The northern ACL is 65.4 percent of the coastwide ABC based on the average swept-area biomass estimates (2003-2012) from the NMFS NWFSC trawl survey. 59 mt is deducted from the ACL to accommodate the Tribal fishery (50 mt), the incidental open access fishery (1.8 mt), and research catch (7.2 mt), resulting in a fishery HG of 1,639 mt for the area north of 34°27′ N lat. For that portion of the stock south of 34°27′ N lat. the ACL is 898 mt. The southern ACL is 34.6 percent of the coastwide ABC based on the average swept-area biomass estimates (2003-2012) from the NMFS NWFSC trawl survey. 42.3 mt is deducted from the ACL to accommodate the incidental open access fishery (41.3 mt) and research catch (1 mt), resulting in a fishery HG of 855.7 mt for the area south of 34°27′ N lat.
ᶠᶠ Spiny dogfish. A coastwide spiny dogfish stock assessment was conducted in 2011. The coastwide spiny dogfish biomass was estimated to be at 63 percent of its unfished biomass in 2011. The coastwide OFL of 2,500 mt is derived from the 2011 assessment using an FMSY proxy of F50%. The coastwide ABC of 2,083 mt is a 16.7 percent reduction from the OFL (σ = 0.72/P* = 0.40) because it is a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,745 mt.
ᵍᵍ Splitnose rockfish. A coastwide splitnose rockfish assessment was conducted in 2009 that estimated the stock to be at 66 percent of its unfished biomass in 2009. Splitnose rockfish in the north is managed in the Minor Slope Rockfish complex and with stock-specific harvest specifications south of 40°10′ N lat. The coastwide OFL is projected in the 2009 assessment using an FMSY proxy of F50%. The coastwide OFL is apportioned north and south of 40°10′ N lat. based on the average 1916-2008 assessed area catch resulting in 64.2 percent of the coastwide OFL apportioned south of 40°10′ N lat., and 35.8 percent apportioned for the contribution of splitnose rockfish to the northern Minor Slope Rockfish complex. The southern OFL of 1,842 mt results from the apportionment described above. The southern ABC of 1,761 mt is a 4.4 percent reduction from the southern OFL (σ = 0.36/P* = 0.45) because it is a category 1 stock. The ACL is set equal to the ABC because the stock is estimated to be above its target biomass of B40%. 10.7 mt is deducted from the ACL to accommodate the incidental open access fishery (0.2 mt), research catch (9 mt) and EFP catch (1.5 mt), resulting in a fishery HG of 1,750.3 mt.
ʰʰ Starry flounder. The stock was assessed in 2005 and was estimated to be above 40 percent of its unfished biomass in 2005 (44 percent in Washington and Oregon, and 62 percent in California). The coastwide OFL of 1,847 mt is set equal to the 2016 OFL, which was derived from the 2005 assessment using an FMSY proxy of F30%. The ABC of 1,282 mt is a 30.6 percent reduction from the OFL (σ = 1.44/P* = 0.40) because it is a category 3 stock. The ACL is set equal to the ABC because the stock was estimated to be above its target biomass of B25% in 2018. 10.3 mt is deducted from the ACL to accommodate the Tribal fishery (2 mt), and the incidental open access fishery (8.3 mt), resulting in a fishery HG of 1,271.7 mt.
ⁱⁱ Widow rockfish. The widow rockfish stock was assessed in 2015 and was estimated to be at 75 percent of its unfished biomass in 2015. The OFL of 13,237 mt is projected in the 2015 stock assessment using the F50% FMSY proxy. The ABC of 12,655 mt is a 4.4 percent reduction from the OFL (σ = 0.36/P* = 0.45) because it is a category 1 stock. The ACL is set equal to the ABC because the stock is above its target biomass of B40%. 217.7 mt is deducted from the ACL to accommodate the Tribal fishery (200 mt), the incidental open access fishery (0.5 mt), EFP catch (9 mt) and research catch (8.2 mt), resulting in a fishery HG of 12,437.3 mt.
ʲʲ Yellowtail rockfish. A 2013 yellowtail rockfish stock assessment was conducted for the portion of the population north of 40°10′ N. lat. The estimated stock depletion is 67 percent of its unfished biomass in 2013. The OFL of 6,574 mt is projected in the 2013 stock assessment using an FMSY proxy of F50%. The ABC of 6,002 mt is an 8.7 percent reduction from the OFL (σ = 0.72/P*= 0.45) because it is a category 2 stock. The ACL is set equal to the ABC because the stock is above its target biomass of B40%. 1,030 mt is deducted from the ACL to accommodate the Tribal fishery (1,000 mt), the incidental open access fishery (3.4 mt), EFP catch (10 mt) and research catch (16.6 mt), resulting in a fishery HG of 4,972.1 mt.
ᵏᵏ Minor Nearshore Rockfish north. The OFL for Minor Nearshore Rockfish north of 40°10′ N lat. of 119 mt is the sum of the OFL contributions for the component species managed in the complex. The ABCs for the minor rockfish complexes are based on a sigma value of 0.72 for category 2 stocks (blue/deacon rockfish in California, brown rockfish, China rockfish, and copper rockfish) and a sigma value of 1.44 for category 3 stocks (all others) with a P* of 0.45. The resulting ABC of 105 mt is the summed contribution of the ABCs for the component species. The ACL of 105 mt is the sum of contributing ABCs. 1.8 mt is deducted from the ACL to accommodate the Tribal fishery (1.5 mt), and the incidental open access fishery (0.3 mt), resulting in a fishery HG of 103.2 mt. Between 40°10′ N lat. and 42° N lat. the Minor Nearshore Rockfish complex north has a harvest guideline of 40.2 mt. Blue/deacon rockfish south of 42° N lat. has a species-specific HG, described in footnote pp.
ˡˡ Minor Shelf Rockfish north. The OFL for Minor Shelf Rockfish north of 40°10′ N lat. of 2,302 mt is the sum of the OFL contributions for the component species within the complex. The ABCs for the minor rockfish complexes are based on a sigma value of 0.36 for a category 1 stock (chilipepper), a sigma value of 0.72 for category 2 stocks (greenspotted rockfish between 40°10′ and 42° N lat. and greenstriped rockfish) and a sigma value of 1.44 for category 3 stocks (all others) with a P* of 0.45. The resulting ABC of 2,048 mt is the summed contribution of the ABCs for the component species. The ACL of 2,047 mt is the sum of contributing ABCs of healthy assessed stocks and unassessed stocks, plus the ACL contribution of greenspotted rockfish in California where the 40-10 adjustment was applied to the ABC contribution for this stock because it is in the precautionary zone. 83.8 mt is deducted from the ACL to accommodate the Tribal fishery (30 mt), the incidental open access fishery (26 mt), EFP catch (3 mt), and research catch (24.8 mt), resulting in a fishery HG of 1,963.2 mt.
ᵐᵐ Minor Slope Rockfish north. The OFL for Minor Slope Rockfish north of 40°10′ N. lat. of 1,896 mt is the sum of the OFL contributions for the component species within the complex. The ABCs for the Minor Slope Rockfish complexes are based on a sigma value of 0.39 for aurora rockfish, a sigma value of 0.36 for the other category 1 stock (splitnose rockfish), a sigma value of 0.72 for category 2 stocks (rougheye rockfish, blackspotted rockfish, and sharpchin rockfish), and a sigma value of 1.44 for category 3 stocks (all others) with a P* of 0.45. A unique sigma of 0.39 was calculated for aurora rockfish because the variance in estimated spawning biomass was greater than the 0.36 used as a proxy for other category 1 stocks. The resulting ABC of 1,754 mt is the summed contribution of the ABCs for the component species. The ACL is set equal to the ABC because all the assessed component stocks (rougheye rockfish, blackspotted rockfish, sharpchin rockfish, and splitnose rockfish) are above the target biomass of B40%. 65.1 mt is deducted from the ACL to accommodate the Tribal fishery (36 mt), the incidental open access fishery (18.6 mt), EFP catch (1 mt), and research catch (9.5 mt), resulting in a fishery HG of 1,688.9 mt.
ⁿⁿ Minor Nearshore Rockfish south. The OFL for the Minor Nearshore Rockfish complex south of 40°10′ N lat. of 1,344 mt is the sum of the OFL contributions for the component species within the complex. The ABC for the southern Minor Nearshore Rockfish complex is based on a sigma value of 0.72 for category 2 stocks (blue/deacon rockfish north of 34°27′ N lat., brown rockfish, China rockfish, and copper rockfish) and a sigma value of 1.44 for category 3 stocks (all others) with a P* of 0.45. The resulting ABC of 1,180 mt is the summed contribution of the ABCs for the component species. The ACL of 1,179 mt is the sum of the contributing ABCs of healthy assessed stocks and unassessed stocks, plus the ACL contribution for China rockfish where the 40-10 adjustment was applied to the ABC contribution for this stock because it is in the precautionary zone. 4.1 mt is deducted from the ACL to accommodate the incidental open access fishery (1.4 mt) and research catch (2.7 mt), resulting in a fishery HG of 1,174.9 mt. Blue/deacon rockfish south of 42° N lat. has a species-specific HG set equal to the 40-10-adjusted ACL for the portion of the stock north of 34°27′ N lat. (250.3 mt) plus the ABC contribution for the unassessed portion of the stock south of 34°27′ N lat. (60.8 mt). The California (i.e., south of 42° N lat.) blue/deacon rockfish HG is 311.1 mt.
ᵒᵒ Minor Shelf Rockfish south. The OFL for the Minor Shelf Rockfish complex south of 40°10′ N lat. of 1,918 mt is the sum of the OFL contributions for the component species within the complex. The ABC for the southern Minor Shelf Rockfish complex is based on a sigma value of 0.72 for category 2 stocks (i.e., greenspotted and greenstriped rockfish) and a sigma value of 1.44 for category 3 stocks (all others) with a P* of 0.45. The resulting ABC of 1,625 mt is the summed contribution of the ABCs for the component species. The ACL of 1,624 mt is the sum of contributing ABCs of healthy assessed stocks and unassessed stocks, plus the ACL contribution of greenspotted rockfish in California where the 40-10 adjustment was applied to the ABC contribution for this stock because it is in the precautionary zone. 47.2 mt is deducted from the ACL to accommodate the incidental open access fishery (8.6 mt), EFP catch (30 mt), and research catch (8.6 mt), resulting in a fishery HG of 1,576.8 mt.
ᵖᵖ Minor Slope Rockfish south. The OFL of 829 mt is the sum of the OFL contributions for the component species within the complex. The ABC for the southern Minor Slope Rockfish complex is based on a sigma value of 0.39 for aurora rockfish, a sigma value of 0.72 for category 2 stocks (blackgill rockfish, rougheye rockfish, blackspotted rockfish, and sharpchin rockfish) and a sigma value of 1.44 for category 3 stocks (all others) with a P* of 0.45. A unique sigma of 0.39 was calculated for aurora rockfish because the variance in estimated biomass was greater than the 0.36 used as a proxy for other category 1 stocks. The resulting ABC of 719 mt is the summed contribution of the ABCs for the component species. The ACL of 709 mt is the sum of the contributing ABCs of healthy assessed stocks and unassessed stocks, plus the ACL contribution of blackgill rockfish where the 40-10 adjustment was applied to the ABC contribution for this stock because it is in the precautionary zone. 20.2 mt is deducted from the ACL to accommodate the incidental open access fishery (17.2 mt), EFP catch (1 mt), and research catch (2 mt), resulting in a fishery HG of 688.8 mt. Blackgill rockfish has a stock-specific HG for the entire groundfish fishery south of 40°10′ N lat. set equal to the species' contribution to the 40-10-adjusted ACL. Harvest of blackgill rockfish in all groundfish fisheries counts against this HG of 122.4 mt. Nontrawl fisheries are subject to a blackgill rockfish HG of 45.3 mt.
qq Other Flatfish. The Other Flatfish complex is comprised of flatfish species managed in the PCGFMP that are not managed with species-specific OFLs/ABCs/ACLs. Most of the species in the Other Flatfish complex are unassessed and include: Butter sole, curlfin sole, flathead sole, Pacific sanddab, rock sole, sand sole, and rex sole. The Other Flatfish OFL of 9,690 mt is based on the sum of the OFL contributions of the component stocks. The ABC of 7,281 mt is based on a sigma value of 0.72 for a category 2 stock (rex sole) and a sigma value of 1.44 for category 3 stocks (all others) with a P* of 0.40. The ACL is set equal to the ABC. The ACL is set equal to the ABC because all of the assessed stocks (i.e., Pacific sanddabs and rex sole) were above their target biomass of B25%. 204 mt is deducted from the ACL to accommodate the Tribal fishery (60 mt), the incidental open access fishery 125 mt), and research catch (19 mt), resulting in a fishery HG of 7,077 mt.
ʳʳ Other Fish. The Other Fish complex is comprised of kelp greenling coastwide, cabezon off Washington, and leopard shark coastwide. The 2015 assessment for the kelp greenling stock off of Oregon projected an estimated depletion of 80 percent. All other stocks are unassessed. The OFL of 501 mt is the sum of the OFL contributions for kelp greenling coastwide, cabezon off Washington, and leopard shark coastwide. The ABC for the Other Fish complex is based on a sigma value of 0.44 for kelp greenling off Oregon and a sigma value of 1.44 for category 3 stocks (all others) with a P* of 0.45. A unique sigma of 0.44 was calculated for kelp greenling off Oregon because the variance in estimated spawning biomass was greater than the 0.36 sigma used as a proxy for other category 1 stocks. The resulting ABC of 441 mt is the summed contribution of the ABCs for the component species. The ACL is set equal to the ABC because all of the assessed stocks (kelp greenling off Oregon) were above their target biomass of B40%. There are no deductions from the ACL so the fishery HG is equal to the ACL of 441 mt.

3. In § 660.231, revise paragraph (b)(3)(iv) to read as follows:

§ 660.231 Limited entry fixed gear sablefish primary fishery.

* * * * *

(b) * * *

(3) * * *

(iv) Incidental Pacific halibut retention north of Pt. Chehalis, WA (46°53.30′ N lat.). From April 1 through October 31, vessels authorized to participate in the sablefish primary fishery, licensed by the International Pacific Halibut Commission for commercial fishing in Area 2A (waters off Washington, Oregon, California), and fishing with longline gear north of Pt. Chehalis, WA (46°53.30′ N lat.) may possess and land up to the following cumulative limits: 200 pounds (91 kg) dressed weight of Pacific halibut for every 1,000 pounds (454 kg) dressed weight of sablefish landed and up to 2 additional Pacific halibut in excess of the 200-pounds-per-1,000-pound ratio per landing. “Dressed” Pacific halibut in this area means halibut landed eviscerated with their heads on. Pacific halibut taken and retained in the sablefish primary fishery north of Pt. Chehalis may only be landed north of Pt. Chehalis and may not be possessed or landed south of Pt. Chehalis.

* * * * *

4. Tables 2 (North) and (South) to part 660, subpart E are revised to read as follows:

5. Table 3 (North) and Table 3 (South) to part 660, subpart F are revised to read as follows:

[FR Doc. 2018-21879 Filed 10-5-18; 8:45 am]

BILLING CODE 3510-22-P